DEPARTMENT OF JUSTICE

Notice of Lodging of Proposed Consent Decree Under the Comprehensive Environmental Responsibility, Compensation, and Liability Act (CERCLA)

On July 25, 2019, the Department of Justice lodged a proposed Consent Decree with the United States District Court for Eastern District of Pennsylvania in the lawsuit entitled United States and Commonwealth of Pennsylvania Department of Environmental Protection v. Whitpain Township, Civil Action No. 2:19-cv-03240-JP. In a civil action filed on July 25, 2019, under Sections 106 and 107(a) of CERCLA, 42 U.S.C. 9606 and 9607(a), the United States, on behalf of the Environmental Protection Agency, alleged defendant Whitpain Township, as a current owner of a portion of the BoRit Asbestos Superfund Site (known as the “Park Parcel”), is liable for response action and costs of response action at the Site. The Commonwealth of Pennsylvania is a co-plaintiff and asserts claims under the Pennsylvania Hazardous Sites Cleanup Act, 35 P.S. Section 6020.101 et seq. The Site was used by Keasbey & Mattison Company for the disposal of asbestos-containing material and other waste products, starting in the 1930s. EPA performed response action that included removal of asbestos containing material, site stabilization, capping, fencing, and installation engineering controls.

Under the terms of the proposed Consent Decree, Whitpain will perform certain enumerated operation and maintenance activities at the Park Parcel and will record an environmental covenant to protect the integrity of the cleanup at the Park Parcel.

The publication of this notice opens a period for public comment on the Consent Decree. Please address comments to the Assistant Attorney General, Environment and Natural Resources Division and refer to United States and PADEP v. Whitpain Township, DJ. Ref. No. 90-11-3-11909. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.75 (25 cents per page reproduction cost) payable to the United States Treasury for the Consent Decree without attachments, or $126.75 for the Consent Decree with attachments.

Robert Brook,
Assistant Section Chief, Environmental Enforcement Section, Environment and Natural Resources Division.

[FR Doc. 2019-16264 Filed 7-30-19; 8:45 am]

BILLING CODE 4410-CW-P